DEPARTMENT OF COMMERCE

Submission for OMB Review; Comment Request

The Department of Commerce will submit to the Office of Management and Budget (OMB) for clearance the following proposal for collection of information under the provisions of the Paperwork Reduction Act.

Agency: U.S. Census Bureau.

Title: Report of Building or Zoning Permits Issued for New Privately-Owned Housing Units.

OMB Control Number: 0607-0094.

Form Number(s): C-404.

Type of Request: Extension of a currently approved collection.

Number of Respondents: 20,325.

Average Hours per Response: Ranges from 3 to 23 minutes.

Burden Hours: 17,263.

Needs and Uses: The Census Bureau is requesting a three-year extension of the Report of Building or Zoning Permits Issued for New Privately-Owned Housing Units, otherwise known as the Building Permits Survey (BPS). The Census Bureau conducts this survey to collect data on new residential buildings from state and local permit-issuing offices. The key estimates from the survey are the numbers of new housing units authorized by building permits; data are also collected on the valuation of the housing units. The BPS specifically collects information on changes to the geographic coverage of the permit-issuing place, the number and valuation of new residential housing units authorized by building permits, and additional information on residential permits valued at $1 million or more, including, but not limited to, site address and type of building.

The Census Bureau produces statistics used to monitor activity in the large and dynamic construction industry. Given the importance of this industry, several of the statistical series have been designated by the Office of Management and Budget as Principal Economic Indicators. Two such indicators are directly dependent on the key estimates from the BPS. For New Residential Construction (which includes Housing Units Authorized by Building Permits, Housing Starts, and Housing Completions), form C-404 is used to collect the estimate for Housing Units Authorized by Building Permits. For New Residential Construction and Sales, the number of housing units authorized by building permits is a key component utilized in the estimation of housing units started, completed, and sold.

These statistics help state, local, and federal governments, as well as private industry, analyze this important sector of the economy. The building permit series are available monthly based on a sample of building permit offices, and annually based on the entire universe of permit offices. Published data from the survey can be found on the Census Bureau's website at www.census.gov/permits.

The Census Bureau collects these data primarily by mail or online using an online version of the same questionnaire. Some data are also collected via receipt of proprietary electronic files or mailed printouts for jurisdictions who have established reporting arrangements which allow them to submit their responses using their own file format.

We use the data, a component of The Conference Board Leading Economic Index, to estimate the number of housing units authorized, started, completed, and sold (single-family only). In addition, the Census Bureau uses the detailed geographic data in the development of annual population estimates; those population estimates are used by government agencies to allocate funding and other resources to local areas, inform policy, and aid in city planning. Policymakers, planners, businesses, and others use the detailed geographic data to monitor growth and plan for local services, and to develop production and marketing plans. The BPS is the only source of statistics on residential construction for states, counties, and smaller geographic areas. Because building permits are public records, we can release data for individual jurisdictions, and annual data are published for every permit-issuing jurisdiction.

Affected Public: State, local or Tribal governments.

Frequency: Monthly and annually.

Respondent's Obligation: Voluntary.

Legal Authority: Title 13 U.S.C., Sections 131 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-21168 Filed 9-27-18; 8:45 am]

BILLING CODE 3510-07-P